FEDERAL RESERVE SYSTEM

Formations of, Acquisitions by, and Mergers of Bank Holding Companies; Correction

This notice corrects a notice (FR Doc. E7-15596) published on pages 45049-45050 of the issue for Friday, August 10, 2007.

Under the Federal Reserve Bank of Chicago heading, the entry for FBOP Corporation, Oak Park, Illinois, is revised to read as follows:

A. Federal Reserve Bank of Chicago (Burl Thornton, Assistant Vice President) 230 South LaSalle Street, Chicago, Illinois 60690-1414:

1. FBOP Corporation, Oak Park, Illinois; to acquire up to 10 percent of the voting shares of Banner Corporation, and thereby indirectly acquire voting shares of Banner Bank, both of Walla Walla, Washington, and Islanders Bank, Friday Harbor, Washington.

Comments on this application must be received by September 4, 2007.

Board of Governors of the Federal Reserve System, August 17, 2007.
Robert deV. Frierson,
Deputy Secretary of the Board.

[FR Doc. E7-16540 Filed 8-21-07; 8:45 am]

BILLING CODE 6210-01-S